DEPARTMENT OF HEALTH AND HUMAN SERVICES

Indian Health Service

RIN 0917-AA26

Reimbursement Rates for Calendar Year 2026

AGENCY: Indian Health Service, HHS.

ACTION: Notice.

SUMMARY: Notice is provided that the Chief of Staff, who has the Delegated Authority of the Indian Health Service (IHS) Director has approved the rates for inpatient and outpatient medical care provided by the IHS facilities for Calendar Year 2026.

SUPPLEMENTARY INFORMATION:

Background

The Chief of Staff, who has the Delegated Authority of the Indian Health Service (IHS) Director, under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2026 for Medicare and Medicaid beneficiaries, beneficiaries of other Federal programs, and for recoveries under the Federal Medical Care Recovery Act (42 U.S.C. 2651-2653). The inpatient rates for Medicare Part A are excluded from the table below. That is because Medicare inpatient payments for IHS hospital facilities are made based on the prospective payment system, or (when IHS facilities are designated as Medicare Critical Access Hospitals) on a reasonable cost basis. Since the inpatient per diem rates set forth below do not include all physician services and practitioner services, additional payment shall be available to the extent that those services are provided.

Please note that the Centers for Medicare & Medicaid Services (CMS) has issued a Final Rule to continue to pay an add-on to the Medicare Outpatient Per Visit Rate listed below for certain high-cost drugs for people with Medicare who receive care at IHS or Tribal hospitals for CY 2026. See 90 FR 53448, (November 25, 2025). The high-cost drugs qualifying for this add-on payment for CY 2026 are listed in Addendum Q to this Final Rule, available at https://www.cms.gov/medicare/payment/prospective-payment-systems/hospital-outpatient/regulations-notices/cms-1834-fc.

Inpatient Hospital per Diem Rate (Excludes Physician/Practitioner Services)

Calendar Year 2026

Lower 48 States: $5,707.

Alaska: $5,208.

Outpatient per Visit Rate (Excluding Medicare)

Calendar Year 2026

Lower 48 States: $826.

Alaska: $1,222.

Outpatient per Visit Rate (Medicare)

Calendar Year 2026

Lower 48 States: $733.

Alaska: $1,233.

Medicare Part B Inpatient Ancillary per Diem Rate

Calendar Year 2026

Lower 48 States: $1,289.

Alaska: $1,617.

Outpatient Surgery Rate (Medicare)

Established Medicare rates for freestanding Ambulatory Surgical Centers.

Effective Date for Calendar Year 2026 Rates

Consistent with previous annual rate revisions, the Calendar Year 2026 rates will be effective for services provided on or after January 1, 2026, to the extent consistent with payment authorities, including the applicable Medicaid State plan.

Clayton W. Fulton,
Chief of Staff, Delegated Authority of the IHS Director.

[FR Doc. 2026-01178 Filed 1-21-26; 8:45 am]

BILLING CODE 4166-14-P